DEPARTMENT OF COMMERCE

International Trade Administration

[A-570-892, A-533-838]

Carbazole Violet Pigment 23 from India and the People's Republic of China: Notice of Postponement of Preliminary Antidumping Duty Determinations

AGENCY: Import Administration, International Trade Administration, Department of Commerce.

ACTION: Notice of Postponement of Preliminary Antidumping Duty Determinations in Antidumping Investigations.

EFFECTIVE DATE: April 8, 2004.

FOR FURTHER INFORMATION CONTACT: David Layton at (202) 482-0371 or Charles Riggle at (202) 482-0650, AD/CVD Enforcement Office 5, Import Administration, International Trade Administration, U.S. Department of Commerce, 14th Street and Constitution Avenue, NW, Washington, DC 20230.

SUMMARY: The Department of Commerce (the Department) is postponing the preliminary determinations in the antidumping investigations on carbazole violet pigment 23 (CVP-23) from India and the People's Republic of China (PRC) from April 29, 2004 to June 18, 2004. This postponement is made pursuant to section 733(c)(1)(B) of the Tariff Act of 1930, as amended (the Act).

SUPPLEMENTARY INFORMATION:

Postponement of Preliminary Determination

The preliminary determinations for these investigations are currently due no later than April 29, 2004. Under section 733(c)(1)(B) of the Act, the Department can extend the period for reaching a preliminary determination until not later than the 190th day after the date on which the administering authority initiates an investigation if the Department concludes that the parties concerned are cooperating and determines that: (i) the case is extraordinarily complicated by reason of (I) the number and complexity of the transactions to be investigated or adjustments to be considered, (II) the novelty of the issues presented, or (III) the number of firms whose activities must be investigated, and (ii) additional time is necessary to make the preliminary determination.

We have concluded that the statutory criteria for postponing the preliminary determinations have been met. Specifically, the parties concerned are cooperating in these investigations. Furthermore, additional time is necessary to complete the preliminary determinations due to the number and complexity of the transactions to be investigated and adjustments to be considered. For example, for the PRC, each respondent has reported a different production process consisting of some 30 inputs, some of which may need to be converted into different concentration levels before being introduced into the main processes. Moreover, there are several inputs that are recycled, further complicating the manner in which we determine normal value. The investigation in India involves potentially complex affiliation issues. In addition, there are numerous respondents subject to the two investigations. Finally, on March 23, 2004, the petitioners (Nation Ford Chemical Company and Sun Chemical Corporation) alleged critical circumstances with respect to imports of CVP-23 from the PRC. We are currently reviewing these allegations.

Pursuant to section 733(c)(1)(B) of the Act, we have determined that these investigations are “extraordinarily complicated” and additional time is necessary. We are, therefore, postponing the preliminary determinations by 50 days to June 18, 2004.

This notice is issued and published pursuant to section 733(c)(2) of the Act and 19 CFR 351.205(f)(1).

Dated: April 1, 2004.
Jeffrey A. May,
Acting Assistant Secretaryfor Import Administration.

[FR Doc. 04-8013 Filed 4-7-04; 8:45 am]

BILLING CODE 3510-DS-S